NATIONAL AERONAUTICS AND SPACE ADMINISTRATION

[Notice: 02-074 ]

National Environmental Policy Act; Pluto-Kuiper Belt Mission

AGENCY: National Aeronautics and Space Administration (NASA).

ACTION: Information update and reopening of scoping period.

SUMMARY: On October 7, 1998, NASA published in the Federal Register a notice of intent (NOI) to prepare an environmental impact statement (EIS) for NASA's Pluto-Kuiper Express Mission. The notice was issued in accordance with the National Environmental Policy Act of 1969, as amended (NEPA) (42 U.S.C. 4321 et seq.) and Council on Environmental Quality and NASA's implementing regulations. Since publication of the NOI, NASA prepared further evaluations of the mission design, including the alternatives indicated in the NOI. These evaluations have resulted in refinement of NASA's original concept for the mission, specifically with respect to details such as specific launch dates, launch vehicle options, and the use of an advanced radioisotope power source (RPS) for onboard power. The renamed Pluto-Kuiper Belt mission is now proposed for launch in January 2006 on an expendable launch vehicle from Cape Canaveral Air Force Station (CCAFS), Florida, with an arrival at Pluto not later than 2020. NASA's original concept has also been modified to utilize a conventional radioisotope thermoelectric generator (RTG) instead of an advanced RPS originally envisioned. It is not anticipated that any radioisotope heater units (RHU) would be needed.

The draft EIS will address the environmental impacts associated with launching and operating the mission, the No Action alternative, and other alternatives. This notice informs the public of the revised proposal, reopens the scoping period, and solicits new public comment.

DATES: Interested parties are invited to submit comments on environmental concerns in writing on or before July 25, 2002, to assure full consideration during the extended scoping process.

ADDRESSES: Written comments should be addressed to Mr. Kurt Lindstrom, NASA Headquarters, Code SE, Washington, DC 20546-0001. Comments may also be sent by electronic mail to: osspluto@hq.nasa.gov.

FOR FURTHER INFORMATION CONTACT: Mr. Kurt Lindstrom, Code SE, NASA Headquarters, Washington, DC 20546-0001; 202-358-1588; electronic mail: osspluto@hq.nasa.gov.

SUPPLEMENTARY INFORMATION: The October 7, 1998, NOI described the purpose and structure of the EIS for the proposed Pluto-Kuiper Express mission. At that time NASA's original concept was to launch the Pluto-Kuiper Express spacecraft in November 2003 or in December 2004 on either the Space Shuttle from Kennedy Space Center, Florida, or an expendable launch vehicle from CCAFS, Florida. Both proposed trajectories would have involved a Jupiter gravity assist maneuver, allowing the spacecraft to arrive at Pluto in time to take advantage of its close orbital position relative to the Sun. The original concept for the Pluto-Kuiper Express mission included the potential use of a new advanced RPS under study for deep-space exploration, and approximately 80 RHUs. NASA anticipated that an RPS, due to improved power conversion system efficiency, would require less radioactive material (plutonium dioxide) than a conventional RTG.

Since publication of the 1998 NOI, NASA has revised its original concept for the Pluto-Kuiper Express mission, renamed the Pluto-Kuiper Belt mission. As a result of more detailed mission design studies and programmatic evaluations, NASA has determined that launch of the Pluto-Kuiper Belt spacecraft is not feasible before January 2006, and therefore has eliminated the November 2003 and December 2004 launch opportunities from further consideration. The January 2006 launch opportunity is now the launch opportunity for the proposed mission. The proposed mission would still require a Jupiter gravity assist trajectory. The flight time to Pluto with the new opportunity would be 10 to 12 years, with the spacecraft arriving at Pluto before 2020. After 2006, Jupiter will not be in the proper alignment to provide a gravity assist toward Pluto until 2015. Arrival by 2020 gives the best opportunity to study Pluto near its closest approach to the sun, which will provide the best conditions for scientific observations. A backup launch opportunity may exist in 2007 using a direct trajectory to Pluto. While direct trajectories to Pluto are available approximately every 13 months, after 2007 the flight times are projected to be too long to provide timely return of scientific data.

The proposed 2006 launch date for the mission also affects potential use of the Space Shuttle, which was proposed in the original NOI as the primary launch vehicle. For programmatic and technical reasons, the Space Shuttle is not proposed for this mission. As proposed, the Pluto-Kuiper Belt mission would be launched on an expendable launch vehicle.

Use of an RPS on the proposed mission would be dependent upon full-scale development of a new power conversion system and qualification testing of the RPS to assure its suitability for long-duration space missions. The development and testing processes would not result in an RPS that would be fully qualified by 2006 for use on the proposed mission. Thus, the mission concept has been revised to include a conventional RTG to provide electrical power for the Pluto-Kuiper Belt spacecraft. Because a conventional RTG would generate a greater amount of heat, RHUs would no longer be needed to provide auxiliary heat for spacecraft thermal control.

In preparing the Pluto-Kuiper Belt mission draft EIS, NASA will consider comments from the scoping process initiated by publication of the original 1998 NOI, and any new comments received in response to this notice.

Jeffrey E. Sutton,
Assistant Administrator for Management Systems.

[FR Doc. 02-14409 Filed 6-7-02; 8:45 am]

BILLING CODE 7510-01-P